DEPARTMENT OF ENERGY

Federal Energy Regulatory Commission

Combined Notice of Filings #2

Take notice that the Commission received the following electric rate filings:

Docket Numbers: ER09-36-002

Applicants: Prairie Wind Transmission LLC

Description: Amended Compliance filing of Prairie Wind Transmission, LLC.

Filed Date: 1/30/12

Accession Number: 20120130-5331

Comments Due: 5 p.m. ET 2/21/12

Docket Numbers: ER10-2016-002; ER10-2011-004

Applicants: PPL Montana, LLC, PPL EnergyPlus, LLC

Description: Notice of Change in Status of PPL Montana, LLC, et al.

Filed Date: 1/30/12

Accession Number: 20120130-5319

Comments Due: 5 p.m. ET 2/21/12

Docket Numbers: ER10-2984-004

Applicants: Merrill Lynch Commodities, Inc.

Description: Notice of Non-Material Change in Status of Merrill Lynch Commodities, Inc.

Filed Date: 1/30/12

Accession Number: 20120130-5327

Comments Due: 5 p.m. ET 2/21/12

Docket Numbers: ER11-4501-003

Applicants: Caney River Wind Project, LLC

Description: Notice of Change in Status of Caney River Wind Project, LLC.

Filed Date: 1/30/12

Accession Number: 20120130-5322

Comments Due: 5 p.m. ET 2/21/12

Docket Numbers: ER12-309-000

Applicants: Midwest Independent Transmission System Operator, Inc.

Description: Midwest Independent Transmission System Operator, Inc.'s Response to the Commission's December 30, 2011 request for additional information.

Filed Date: 1/30/12

Accession Number: 20120130-5318

Comments Due: 5 p.m. ET 2/21/12

Docket Numbers: ER12-310-000

Applicants: Ameren Illinois Company, Midwest Independent Transmission System Operator, Inc.

Description: Response to Letter Requesting Additional Information of Midwest Independent Transmission System Operator, Inc.

Filed Date: 1/30/12

Accession Number: 20120130-5323

Comments Due: 5 p.m. ET 2/21/12

Take notice that the Commission received the following land acquisition reports:

Docket Numbers: LA11-4-000

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, LLC, Tenaska Alabama Partners, L.P., Tenaska

Alabama II Partners, L.P., Tenaska Frontier Partners, Ltd., Tenaska Gateway Partners, Ltd., Tenaska Georgia Partners, L.P., Tenaska Power Management, LLC, Tenaska Power Services Co., Tenaska Virginia Partners, L.P., Tenaska Washington Partners, L.P., Texas Electric Marketing, LLC,TPF Generation Holdings, LLC, Wolf Hills Energy, LLC

Description: Quarterly Land Acquisition Report.

Filed Date: 1/30/12

Accession Number: 20120130-5320

Comments Due: 5 p.m. ET 2/21/12

Docket Numbers: LA11-4-000

Applicants: Macho Springs Power I, LLC

Description: Site Control Report for Q4 2011 of Macho Springs Power I, LLC.

Filed Date: 1/30/12

Accession Number: 20120130-5325

Comments Due: 5 p.m. ET 2/21/12

Docket Numbers: LA11-4-000

Applicants: Bluegrass Generation Company, LLC, Blythe Energy, LLC, Calhoun Power Company, LLC, DeSoto County Generating Company, LLC, Doswell Limited Partnership, Las Vegas Power Company, LLC, LS Power Marketing, LLC, LSP Safe Harbor Holdings, LLC, LSP University Park, LLC, Renaissance Power, LLC, Riverside Generating Company, LLC, Rocky Road Power, LLC, Tilton Energy LLC, University Park Energy, LLC, Wallingford Energy LLC, Wyoming Colorado Intertie, LLC

Description: Quarterly Land Acquisition Report of Bluegrass Generation Company, LLC, et al.

Filed Date: 1/30/12

Accession Number: 20120130-5326

Comments Due: 5 p.m. ET 2/21/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2012.
Nathaniel J. Davis, Sr.,
Deputy Secretary.

[FR Doc. 2012-2713 Filed 2-6-12; 8:45 am]

BILLING CODE 6717-01-P